DEPARTMENT OF THE INTERIOR

Bureau of Land Management

[PO #4820000251; Order #02412-014-004-047181.0]

Notice of Intent To Amend the Resource Management Plan for the Rock Springs Field Office, Wyoming and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Wyoming State Director intends to prepare a Resource Management Plan (RMP) amendment with an associated Environmental Assessment (EA) for the Rock Springs Field Office and by this notice is announcing the beginning of the scoping period to solicit public comments and identify issues, is providing the planning criteria for public review, and is issuing a call for nominations for areas of critical environmental concern (ACECs).

DATES: The BLM requests that the public submit comments concerning the scope of the analysis, potential alternatives, and identification of relevant information and studies, and ACEC nominations by November 3, 2025. To afford the BLM the opportunity to consider issues and ACEC nominations raised by commenters in the Draft RMP/EA, please ensure your comments are received prior to the close of the 30-day scoping period or 15 days after the last public meeting, whichever is later.

ADDRESSES: You may submit comments on issues and planning criteria related to Rock Springs RMP Amendment and nominations of new ACECs by any of the following methods:

• Website: https://eplanning.blm.gov/eplanning-ui/project/13853/510.

• Email: blm_wy_rockspringsrmp@blm.gov.

• Mail: Rock Springs Field Office 280 Highway 191 N, Rock Springs, WY 82901.

Documents pertinent to this proposal may be examined online at https://eplanning.blm.gov/eplanning-ui/project/13853/510 and at the Rock Springs Field Office.

FOR FURTHER INFORMATION CONTACT: Kimberlee Foster, Field Manager, telephone 307-352-0201 address 280 Highway 191 N, Rock Springs, WY 82901; email kfoster@blm.gov. Contact Ms. Foster to have your name added to our mailing list. Individuals in the United States who are deaf, deafblind, hard of hearing, or have a speech disability may dial 711 (TTY, TDD, or TeleBraille) to access telecommunications relay services for contacting Ms. Foster. Individuals outside the United States should use the relay services offered within their country to make international calls to the point-of-contact in the United States.

SUPPLEMENTARY INFORMATION: This document provides notice that the BLM Wyoming State Director intends to prepare an RMP amendment with an associated EA for the Rock Springs RMP Amendment, announces the beginning of the scoping process, seeks public input on issues and planning criteria, and invites the public to nominate ACECs. The RMP amendment would change the existing Rock Springs RMP for actions related to special management and their associated mineral restrictions.

The planning area is located in Sweetwater, Sublette, Lincoln, Fremont, and Uinta Counties in Wyoming and encompasses approximately 3.6 million acres of public land.

Purpose and Need

The purpose of the Amendment is to review and revise the Rock Springs RMP consistent with Executive Order 14154, Executive Order 14241, Executive Order 14261, and Secretary's Order 3418. The BLM has determined that the special management designations and their associated mineral restrictions within the field office are inconsistent with recent Executive Orders and need to be reviewed.

Preliminary Alternatives

The BLM Rock Springs Field Office has identified the following preliminary considerations for the development of alternatives: reasonably foreseeable development scenario; habitat, scenic, historic, paleontological, and unique features within the area; and Tribal and cultural values. Within the field office, the BLM currently manages 12 ACECs, 5 Special Recreation Management Areas (SRMAs), a National Historic Trails (NHT) Corridor, and 13 Wilderness Study Areas. Potential for fluid mineral development was previously determined to be low for much of the special management designated areas; however, new technologies and industry interest have changed over recent years and the reasonably foreseeable development needs to be reevaluated. Additionally, locatable, coal, solid leasables and saleable mineral availability needs to be reviewed in consideration of recent Executive Orders. The BLM will re-evaluate the existing designations for ACECs, SRMAs, and the NHT corridor to assess whether special management is needed to protect sensitive resource values and whether mineral development can be allowed in certain circumstances. New nominations for ACECs will be accepted for further consideration within the planning area.

The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified the following special management designations for review: twelve existing ACECs, five SRMAs, and an NHT corridor. In addition to determining if special management is needed, the BLM will analyze the mineral (fluid, locatable, saleable, solid leasable, and coal) development and rights-of way restrictions within the existing designations. The planning criteria are available for public review and comment at the ePlanning website (see ADDRESSES).

Public Scoping Process

This notice of intent initiates the scoping period and public review of the planning criteria, which guide the development and analysis of the RMP Amendment and EA.

The BLM will be holding one scoping meeting in the following location: Rock Springs, WY. The specific date and location of this scoping meeting will be announced at least 15 days in advance through local media, newspapers, the ePlanning project page and social media.

Scoping comments that relate to the special management designations, mineral potential, and management of the resource values will be accepted. The 2024 Rock Springs RMP Record of Decision describes the current management of this area and the existing ACEC, SRMA, and NHT corridor designations, along with the current management actions related to mineral and rights-of-way restrictions.

ACECs

The following ACECs are currently designated in the planning area:

• Greater Sand Dunes ACEC: 26,746 acres with significant historic, cultural, geological, and wildlife values.

• Oregon Buttes ACEC: 3,441 acres with significant historic, cultural, wildlife, and scenic values.

• South Pass Historic Landscape ACEC: 53,772 acres with significant cultural, scenic, and wildlife values.

• Steamboat Mountain ACEC: 439,081 acres with significant historic, cultural, wildlife, and scenic values.

• White Mountain Petroglyphs ACEC: 22 acres with significant Native American concerns and scenic values.

• South Wind River ACEC: 281,104 acres with high value air, cultural, biodiversity, and visual resources.

• Big Sandy Openings ACEC: 1,994 acres with scenic, watershed, and geologic values.

• Pinnacles ACEC: 1,334 acres with scenic, paleontological, and wildlife values.

• Little Mountain ACEC: 115,573 acres with historic, cultural, paleontological, wildlife, and scenic values.

• Natural Corrals ACEC: 1,107 acres with cultural, historical, recreational, wildlife, scenic and geological values.

• Pine Springs ACEC: 6,483 acres with historical, cultural, and paleontological values.

• Special Status Plants ACEC: 4,469 acres with significant special status plant values.

Information about each existing ACEC, including the size, relevant and important values, and other helpful information is available in Appendix C of the 2024 Record of Decision for the Rock Springs RMP online at on the project's website (see ADDRESSES). The BLM will reevaluate existing designated ACECs in the Draft RMP Amendment to determine if relevant and important values still exist and analyze for consideration of designation. During preplanning and early engagement, no additional areas were identified for consideration as ACECs. The BLM will evaluate any nominated ACECs for consideration in the Draft RMP Amendment. This notice invites the public to nominate additional areas for ACEC consideration. To assist the BLM in evaluating nominations for consideration in the Draft RMP Amendment, please provide supporting descriptive materials, maps, and evidence of the relevance and importance of resources or hazards by the close of the public comment period in order to facilitate timely evaluation. The BLM has identified the anticipated issues related to the consideration of ACECs in the planning criteria.

Additional Information

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with federally recognized Tribes on a government-to-government basis in accordance with Executive Order 13175, BLM Manual 1780, and other Departmental policies. Tribal concerns, including impacts on Indian trust assets and potential impacts to cultural resources, will be given due consideration. Federal, State, and local agencies, along with federally recognized Tribes and other stakeholders that may be interested in or affected by the proposed Rock Springs RMP Amendment that the BLM is evaluating, are invited to participate in the scoping process and, if eligible, may request or be requested by the BLM to participate in the development of the environmental assessment as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 1610.2)

Kristina Kirby,
Acting State Director.

[FR Doc. 2025-19198 Filed 10-1-25; 8:45 am]

BILLING CODE 4331-26-P